DEPARTMENT OF DEFENSE

Office of the Secretary

[Docket ID: DoD-2022-OS-0113]

Submission for OMB Review; Comment Request; Correction

AGENCY: Office of the Under Secretary of Defense for Personnel and Readiness (OUSD(P&R)), Department of Defense (DoD).

ACTION: 30-Day information collection notice; correction.

SUMMARY: On September 16, 2024, the DoD published a notice titled Submission for OMB Review; Comment Request. Subsequent to publication of the notice, DoD is changing the title under the Title; Associated Form; and OMB Control Number in the SUPPLEMENTARY INFORMATION section. All other information in the September 16, 2024, notice remains the same.

FOR FURTHER INFORMATION CONTACT: Patricia Toppings, 571-372-0485.

SUPPLEMENTARY INFORMATION:

Correction

The title under Title; Associated Form; and OMB Control Number in the SUPPLEMENTARY INFORMATION section in the notice that published in the Federal Register on September 16, 2024 (89 FR 75534-75535) is changed to read as follows:

In FR Doc. 2024-21000, on page 75534 in the third column, correct the title to read: Addressing Barriers to Mental Health Care for Active-Duty Sexual Trauma Survivors.

Dated: September 24, 2024.
Aaron T. Siegel,
Alternate OSD Federal Register Liaison Officer, Department of Defense.

[FR Doc. 2024-22347 Filed 9-27-24; 8:45 am]

BILLING CODE 6001-FR-P